SMALL BUSINESS ADMINISTRATION

[Declaration of Economic Injury Disaster #9K86]

State of Iowa

Hardin County, Iowa and the contiguous counties of Butler, Franklin, Hamilton, Grundy, Marshall, Story, and Wright constitute an economic injury disaster loan area as a result of a natural gas explosion in the City of Hubbard on December 7, 2000. Eligible small businesses and small agricultural cooperatives without credit available elsewhere may file applications for economic injury assistance as a result of this disaster until the close of business on November 26, 2001 at the address listed below or other locally announced locations: U.S. Small Business Administration, Disaster Area 3 Office, 4400 Amon Carter Blvd., Suite 102, Ft. Worth, TX 76155.

The interest rate for eligible small businesses and small agricultural cooperatives is 4 percent.

The number assigned for economic injury for the State of Iowa is 9K8600.

(Catalog of Federal Domestic Assistance Program No. 59002.)

Dated: February 26, 2001.
John Whitmore,
Acting Administrator.

[FR Doc. 01-5334 Filed 3-5-01; 8:45 am]

BILLING CODE 8025-01-U